DEPARTMENT OF THE TREASURY

Office of Thrift Supervision

[AC-22: OTS Nos. 00057, H4139, H4138, and H4513]

Home Federal Savings and Loan Association, Home Federal Mutual Holding Company of Louisiana, Home Federal Bancorp, Inc. of Louisiana, and (new) Home Federal Bancorp, Inc. of Louisiana, Shreveport, Louisiana; Approval of Conversion Application

Notice is hereby given that on May 14, 2008, the Office of Thrift Supervision approved the application of Home Federal Mutual Holding Company of Louisiana and Home Federal Savings and Loan Association, Shreveport, Louisiana, to convert to the stock form of organization. Copies of the application are available for inspection by appointment (phone number: 202-906-5922 or e-mail: Public.Info@OTS.Treas.gov) at the Public Reading Room, 1700 G Street, NW., Washington, DC 20552, and OTS Midwest Regional Office, 225 E. John Carpenter Freeway, Suite 500, Irving, Texas 75062.

Dated: May 28, 2008.
By the Office of Thrift Supervision,
Sandra E. Evans,
Federal Register Liaison.

[FR Doc. E8-12270 Filed 6-4-08; 8:45 am]

BILLING CODE 6720-01-P